INTERNATIONAL TRADE COMMISSION

[Investigation Nos. 701-TA-448 and 731-TA-1117 (Second Review)]

Certain Off-the-Road Tires From China; Termination of Five-Year Reviews

AGENCY: United States International Trade Commission.

ACTION: Notice.

SUMMARY: The Commission instituted the subject five-year reviews in January 2019 to determine whether revocation of the antidumping and countervailing duty orders on certain off-the-road tires from China would be likely to lead to continuation or recurrence of material injury. On May 10, 2019, the Department of Commerce published notice that it was revoking the orders effective February 4, 2019, because it did not receive a notice of intent to participate from the domestic interested parties (84 FR 20616). Accordingly, the subject reviews are terminated.

DATES: June 17, 2019.

FOR FURTHER INFORMATION CONTACT: Nathanael Comly (202-205-3174), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (https://www.usitc.gov).

Authority: These reviews are being terminated under authority of title VII of the Tariff Act of 1930 and pursuant to section 751(c) of the Tariff Act of 1930 (19 U.S.C. 1675(c)). This notice is published pursuant to section 207.69 of the Commission's rules (19 CFR 207.69).

By order of the Commission.
Issued: June 18, 2019.
Lisa Barton,
Secretary to the Commission.

[FR Doc. 2019-13266 Filed 6-20-19; 8:45 am]

BILLING CODE 7020-02-P